ENVIRONMENTAL PROTECTION AGENCY

[EPA-HQ-OPP-2011-0374; FRL-12220-02-OCSPP]

Dimethyl Tetrachloroterephthalate (DCPA); Final Cancellation Order for Pesticide Registrations

AGENCY: Environmental Protection Agency (EPA).

ACTION: Notice.

SUMMARY: The Environmental Protection Agency (EPA or Agency) is hereby announcing EPA's order for the cancellations, voluntarily requested by the registrant and accepted by the Agency, of the products listed in Table 1 of Unit II., pursuant to the Federal Insecticide, Fungicide, and Rodenticide Act (FIFRA). This action cancels the last remaining products containing Dimethyl Tetrachloroterephthalate (DCPA) in the U.S.

DATES: These cancellations are applicable October 23, 2024.

ADDRESSES: The docket for this action, identified by docket identification (ID) number EPA-HQ-OPP-2011-0374, is available through https://www.regulations.gov. Additional information about dockets generally, along with instructions for visiting the docket in person, is available at https://www.epa.gov/dockets.

FOR FURTHER INFORMATION CONTACT: James Douglass, Pesticide Re-Evaluation Division (7508P), Office of Pesticide Programs, Environmental Protection Agency, 1200 Pennsylvania Ave. NW, Washington, DC 20460-0001; telephone number: (202) 566-2343; email address: douglass.james@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

B. What action is the Agency taking?

This cancellation order follows a notice of receipt in the Federal Register on August 29, 2024 (89 FR 70181) (FRL-12220-01-OCSPP) and opportunity for public comment on the requests from the registrant listed in Table 2 of Unit II. to voluntarily cancel these product registrations. In that document, EPA indicated that it would issue an order implementing the cancellations, unless the Agency received substantive comments within the 30-day comment period that would merit its further review of these requests, or unless the registrant withdrew its requests. The Agency received three comments by the end of the comment period, none of which necessitate further review of the registrant's requests to cancel these product registrations. Accordingly, EPA hereby issues this cancellation order granting the requested cancellations. Any distribution, sale, or use of the products subject to this cancellation order is permitted only as described below in Unit IV.

C. What is EPA's authority for taking this action?

FIFRA section 6(f)(1) (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request.

II. Cancellation Order

Pursuant to FIFRA section 6(f) (7 U.S.C. 136d(f)), EPA issues this cancellation order for the products in Table 1. The effective date of the cancellations that are the subject of this order is October 23, 2024. Any distribution, sale, or use of existing stocks of the products identified in Table 1 of this unit in a manner inconsistent with any of the provisions for disposition of existing stocks set forth in Unit IV. would be a violation of FIFRA.

Table 1 of this unit lists the product cancellations, as requested by registrant, in sequence by registration number (or company number and FIFRA section 24(c) number).

Table 1—Product Cancellations
Registration No. | Company No. | Product name | Active ingredients
5481-495 | 5481 | Technical Chlorthal Dimethyl | Dimethyl tetrachloroterephthalate (DCPA).
5481-487 | 5481 | Dacthal Flowable Herbicide | DCPA.
WI050002 | 5481 | Dacthal W-75 Herbicide | DCPA.

Table 2 of this unit includes the name and address of record for the DCPA registrant of the products in Table 1 of this unit. The EPA Company No. corresponds to the first part of the EPA registration numbers of the products listed in Table 1 of this unit.

Table 2—Registrant of the Voluntarily Cancelled Products
EPA Company No. | Company name and address
5481 | AMVAC Chemical Corporation, 4695 MacArthur Court, Suite 1200, Newport Beach, CA 92660.

III. Summary of Public Comments Received and Agency Response to Comments

In its comment, AMVAC generally disagreed with EPA's characterization of events made in various public statements extending from its FIFRA section 3(c)(2)(b) suspension of the DCPA technical product registration through its FIFRA section 6(c)(3) emergency order of suspension. Since the registrant did not withdraw its requests to cancel its registrations in its public comment, EPA has no further response at this time.

Earthjustice also submitted a comment on behalf of itself and Alianza Nacional de Campesinas, California Rural Legal Assistance Foundation, Center for Food Safety, and Pesticide Action Network North America. In its comment, Earthjustice called on EPA to exercise adequate oversight to ensure that AMVAC's takeback and disposal program does not put communities in harm's way and is maximally effective. EPA remains in regular contact with AMVAC regarding its return program and will correspond with state lead agencies as needed to ensure an effective product return occurs.

Finally, a comment was received from a private citizen which provided some resources pertaining to DCPA and pesticide regulation more generally for EPA's consideration. EPA thanks this commenter for the information and their time.

IV. Provisions for Disposition of Existing Stocks

Existing stocks are those stocks of registered pesticide products which are currently in the United States, and which were packaged, labeled, and released for shipment prior to the effective date of the cancellation action. The existing stocks provisions for the products subject to this order are as follows.

The registrant, AMVAC, is prohibited from selling, distributing, or using the pesticides identified in Table 1 of Unit II., except for proper disposal or for export consistent with FIFRA section 17.

Effective on the date listed below, persons other than the registrant are also prohibited from selling, distributing, or using existing stocks of these products except for returning existing stocks to AMVAC, properly disposing of existing stocks and exporting existing stocks consistent with FIFRA section 17.

Since the Agency's August 6, 2024, issuance of an Emergency Order of Suspension in the Federal Register on August 7, 2024 (89 FR 64445) (FRL-12147-01-OCSPP), AMVAC has been implementing a voluntary return program of products containing DCPA. AMVAC has directed end users to return product to the retail establishment where the product was originally purchased. AMVAC is collecting existing stocks from distributors and retailers and working to ensure the proper disposal of any collected product.

Authority: 7 U.S.C. 136 et seq.

Dated: October 17, 2024.
Jean Anne Overstreet,
Director, Pesticide Re-Evaluation Division, Office of Pesticide Programs.

[FR Doc. 2024-24511 Filed 10-22-24; 8:45 am]

BILLING CODE 6560-50-P